DEPARTMENT OF COMMERCE

National Oceanic and Atmospheric Administration

Notice of Indirect Cost Rates for the Damage Assessment and Restoration Program

Correction

In notice document 00-31021 beginning on page 76611 in the issue of Thursday, December 7, 2000, make the following corrections:

1. On page 76611, in the second column, the subagency's name is corrected as set forth above.

2. On the same page, in the same column, under the heading SUMMARY, in the sixth line, “invovled” should read “involved”.

3. On the same page, in the same column, under the heading SUMMARY, in the seventh line, “assesment ” should read “assessment ”.

4. On the same page, in the third column, under the heading SUPPLEMENTARY INFORMATION, in the 11th line, “Naitonal ” should read “National”.

5. On the same page, in the same column, under the same heading, in the 19th line, “Services” should read “Service”.

6. On page 76612, in the first column, in the first full paragraph, in the second line, “ account” should read “accounting”.

7. On the same page, in the same column, under the same heading, in the second full paragraph, in the first line, “anlysis” should read “analysis”.

8. On the same page, in the same column, in the last full paragraph, in the 11th line, after “and”remove “not”.

[FR Doc. C0-31021 Filed 12-26-00; 8:45 am]

BILLING CODE 1505-01-D